DEPARTMENT OF TRANSPORTATION

Coast Guard

33 CFR Part 165

[COTP Honolulu 01-005]

RIN 2115-AA97

Security Zone; Chevron Multi-Point Mooring, Barbers Point Coast, Honolulu, HI

AGENCY: Coast Guard, DOT.

ACTION: Temporary final rule.

SUMMARY: The Coast Guard is establishing a security zone in the waters adjacent to the Chevron Multi-Point Mooring (CMPM) Barbers Point Coast, Honolulu, HI. This security zone is necessary to protect the CMPM, and all involved personnel and vessels from acts of sabotage or other subversive acts, accidents, or other causes of a similar nature at the CMPM off the Barbers Point Coast on the island of Oahu. This six-month security zone will be activated and deactivated via Broadcast Notice to Mariners as required. When the zone is activated, entry into this zone is prohibited unless authorized by the U.S. Coast Guard Captain of the Port Honolulu, HI.

DATES: This rule is effective from 6 a.m. HST September 19, 2001 to 4 p.m. HST March 19, 2002.

ADDRESSES: Public comments and supporting material will be available for inspection or copying at U.S. Coast Guard Marine Safety Office Honolulu, 433 Ala Moana Blvd, Honolulu, Hawaii 96813, between 7 a.m. and 4:30 p.m., Monday through Friday, except for Federal holidays.

FOR FURTHER INFORMATION CONTACT: LCDR R.T. Spaulding, U.S. Coast Guard Marine Safety Office Honolulu, Hawaii at (808) 522-8264.

SUPPLEMENTARY INFORMATION:

Regulatory Information

In order to protect the interests of national security the Coast Guard is establishing a temporary security zone to provide for the safety and security of vessels, persons, and facilities in the navigable waters of the United States. In accordance with 5 U.S.C. 553, good cause exists for not publishing a notice of proposed rulemaking (NPRM) and for making this rule effective in less than 30 days after publication in the Federal Register.

Publishing an NPRM and delaying this rule's effective date would be impracticable and contrary to the public interest since immediate action is needed to protect the Chevron Multi-Point Mooring (CMPM) Barbers Point Coast, Honolulu, HI, and all involved personnel and vessels. Under these circumstances, there is insufficient time to publish a proposed rule or to provide a delayed effective date for the rule.

Background and Purpose

The Coast Guard is establishing a security zone in the waters adjacent to the CMPM Mooring Barbers Point Coast, Honolulu, HI. The security zone will extend out 1,000 yards in all directions from the following coordinates: 21°18.3′ North, 158°06.2′ West. This security zone extends from the surface of the water to the ocean floor.

This security zone is necessary to protect the CMPM, tank vessels, and all involved personnel from acts of sabotage or other subversive acts, accidents, or other causes of a similar nature during its cargo operations at the CMPM off the Barbers Point Coast on the island of Oahu. Representatives of the Captain of the Port Honolulu will enforce this security zone. The Captain of the Port may be assisted by other federal or state agencies.

Regulatory Evaluation

This temporary final rule is not a significant regulatory action under section 3(f) of Executive Order 12866 and does not require an assessment of potential costs and benefits under section 6(a)(3) of that order. The Office of Management and Budget has not reviewed it under that order. It is not significant under the regulatory policies and procedures of the Department of Transportation (DOT) (44 FR 11040, February 26, 1979). The U.S. Coast Guard expects the economic impact of this action to be so minimal that a full Regulatory Evaluation under paragraph 10(e) of the regulatory policies and procedures of DOT is unnecessary. This expectation is based on the short duration of the zone and the limited geographic area affected by it.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The U.S. Coast Guard certifies under 5 U.S.C. 605(b) that this regulation will not have a significant economic impact on a substantial number of small entities. No small business impacts are anticipated due to the small size of the zone and the short duration of the security zone in any one area.

Collection of Information

This rule calls for no new collection of information under the Paperwork Reduction Act of 1995 (44 U.S.C. 3501-3520 et seq.).

Federalism

The U.S. Coast Guard has analyzed this rule under Executive Order 13132, and has determined this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government having first provided the funds to pay those unfunded mandate costs. This rule will not impose an unfunded mandate.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The U. S. Coast Guard considered the environmental impact of this action and concluded that, under figure 2-1, paragraph (34)(g) of Commandant Instruction M16475.1C, this rule is categorically excluded from further environmental documentation. As an emergency action, the environmental analysis requisite regulatory consultations, and categorical exclusion determination, will be prepared and submitted after establishment of this temporary security zone, and will be available for inspection or copying where indicated under addresses.

List of Subjects in 33 CFR Part 165

Harbors, Marine safety, Navigation (water), Reporting and recordkeeping requirements, Security measures, Waterways.

Regulation

For the reasons set out in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From 6 a.m. September 19, 2001 until 4 p.m. March 19, 2002, a new temporary § 165.T14-057 is added to read as follows:

§ 165.T14-057 Security zone: Chevron Multi-Point Mooring, Barbers Point Coast, Honolulu, HI.

(a) Location. The following area is a security zone: All waters encompassed by a circle extending 1,000 yards in all directions around the Chevron Multi-Point Mooring from the following coordinates: 21°18.3′ North, 158°06.2′ West. This security zone extends from the surface of the water to the ocean floor.

(b) Designated representative. A designated representative of the Captain of the Port is any Coast Guard commissioned officer, warrant or petty officer that has been authorized by the Captain of the Port Honolulu to act on his behalf. The following officers have or will be designated by the Captain of the Port Honolulu: The senior Coast Guard boarding officer on each vessel enforcing the security zone.

(c) Regulations. In accordance with the general regulations in § 165.33 of this part, when this zone is activated entry into this zone is prohibited unless authorized by the Captain of the Port or his designated representatives.

(d) Effective dates. This section is effective from 6 a.m. HST September 19, 2001 until 4 p.m. HST March 19, 2002 unless canceled earlier by the Captain of the Port Honolulu. This six-month security zone will be activated and deactivated via Broadcast Notice to Mariners as required.

Dated: September 18, 2001.
G. J. Kanazawa,
Captain, U.S. Coast Guard, Captain of the Port, Honolulu.

[FR Doc. 02-4955 Filed 2-28-02; 8:45 am]

BILLING CODE 4910-15-U